DEPARTMENT OF HEALTH AND HUMAN SERVICES

Food and Drug Administration

[Docket No. FDA-2023-N-1358]

FDA Science Forum 2023; Public Workshop

AGENCY: Food and Drug Administration, HHS.

ACTION: Notice of public workshop.

SUMMARY: The Food and Drug Administration (FDA, the Agency, or we) is announcing the following public workshop entitled “FDA Science Forum 2023.” The purpose of the public workshop is to inform the public about the breadth of research underway at the Agency, and to show how cutting-edge science informs FDA's regulatory decision-making to protect and promote public health.

DATES: The public workshop will be held on June 13, 2023 (Day 1), from 9 a.m. to 3:30 p.m. Eastern Time, and June 14, 2023 (Day 2), from 9 a.m. to 2 p.m. Eastern Time. See the SUPPLEMENTARY INFORMATION section for registration date and information.

ADDRESSES: The public workshop will be held via webcast.

FOR FURTHER INFORMATION CONTACT: Rokhsareh Shahidzadeh, Office of Scientific Professional Development, Office of the Chief Scientist, Office of the Commissioner, Food and Drug Administration, 10903 New Hampshire Ave., Bldg. 32, Rm. 2383, Silver Spring, MD 20993, 301-796-8740, FDASciProDev@fda.hhs.gov.

SUPPLEMENTARY INFORMATION:

I. Background

The FDA Science Forum is held biennially to inform the public about the groundbreaking science conducted at the Agency, and to show how scientific research is used in FDA's regulatory decisions to protect and promote public health. Open to the public, industry, academia, patient advocates, government agencies, and current and potential collaborators, the 2-day event offers an opportunity to hear FDA scientific experts and nationally renowned scientists speak on a range of topics associated with regulatory science.

II. Topics for Discussion at the Public Workshop

The theme for the 2023 FDA Science Forum, “Advancing Regulatory Science Through Innovation,” will highlight areas of FDA research, including: (1) improving clinical and postmarket evaluation, (2) tools to effectively use big data, (3) product development tools and manufacturing, and (4) medical countermeasures (MCMs), infectious disease and pathogen reduction technologies.

III. Participating in the Public Workshop

Registration: To register for the public workshop, please visit the following website: https://www.fda.gov/scienceforum.

Registration is free. Persons interested in attending this public workshop must register by June 12, 2023, at 5 p.m. Eastern Time. Registrants will receive confirmation when they have been accepted.

If you need special accommodations due to a disability, please contact Rokhsareh Shahidzadeh (see FOR FURTHER INFORMATION CONTACT) no later than June 5, 2023, by 5 p.m. Eastern Time.

Streaming Webcast of the public workshop: This public workshop will be webcast. To register, please visit the following website: https://www.fda.gov/scienceforum. Participants interested in viewing via webcast must register by June 12, 2023, at 5 p.m. Eastern Time.

Dated: April 26, 2023.
Lauren K. Roth,
Associate Commissioner for Policy.

[FR Doc. 2023-09175 Filed 4-28-23; 8:45 am]

BILLING CODE 4164-01-P